DEPARTMENT OF TRANSPORTATION

Federal Railroad Administration

[Docket No. FRA 2015-0007-N-32]

Proposed Agency Information Collection Activities; Comment Request

AGENCY: Federal Railroad Administration (FRA), Department of Transportation.

ACTION: Notice and request for comments.

SUMMARY: In accordance with the Paperwork Reduction Act of 1995 and its implementing regulations, the Federal Railroad Administration (FRA) hereby announces that it is seeking renewal of the following currently approved information collection activities. Before submitting these information collection requests (ICRs) for clearance by the Office of Management and Budget (OMB), FRA is soliciting public comment on specific aspects of the activities identified below.

DATES: Comments must be received no later than February 29, 2016.

ADDRESSES: Submit written comments on any or all of the following proposed activities by mail to either: Mr. Robert Brogan, Information Collection Clearance Officer Office of Safety, Regulatory Safety Analysis Division, RRS-21, Federal Railroad Administration, 1200 New Jersey Ave. SE., Mail Stop 25, Washington, DC 20590, or Ms. Kimberly Toone, Information Collection Clearance Officer, Office of Information Technology, RAD-20, Federal Railroad Administration, 1200 New Jersey Ave. SE., Mail Stop 35, Washington, DC 20590. Commenters requesting FRA to acknowledge receipt of their respective comments must include a self-addressed stamped postcard stating, “Comments on OMB control number 2130-__.” Alternatively, comments may be transmitted via facsimile to (202) 493-6216 or (202) 493-6497, or via email to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Regulatory Safety Analysis Division, RRS-21, Federal Railroad Administration, 1200 New Jersey Ave. SE., Mail Stop 25, Washington, DC 20590 (telephone: (202) 493-6292) or Ms. Kimberly Toone, Information Collection Clearance Officer, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved ICRs that FRA will submit for clearance by OMB as required under the PRA:

Title: System for Telephonic Notification of Unsafe Conditions at Highway-Rail and Pathway Grade Crossings.

OMB Control Number: 2130-0591.

Abstract: The collection of information is set forth under 49 CFR part 234. The rule is intended specifically to help implement Section 205 of the Rail Safety Improvement Act of 2008 (RSIA), Public Law 110-432, Division A, which was enacted on October 16, 2008. Generally, the rule is intended to increase safety at highway-rail and pathway grade crossings. Section 205 of the RSIA mandates that the Secretary of Transportation require certain railroad carriers to take a series of specified actions related to setting up and using systems by which the public is able to notify the railroad by toll-free telephone number of safety problems at its highway-rail and pathway grade crossings. Such systems are commonly known as Emergency Notification Systems (ENS) or ENS programs. 49 CFR part 234 implements Section 2015 of the RSIA. The information collected is used by FRA to ensure that railroad carriers establish and maintain a toll-free telephone service to report emergencies at all public, private, and pedestrian grade crossings for rights-of-way over which they dispatch trains.

Form Number(s): N/A.

Affected Public: Businesses.

Respondent Universe: Railroads.

Frequency of Submission: On occasion.

Reporting Burden:

CFR Section | Respondent universe | Total annual responses | Average time per response | Total annual burden hours
234.303(b)—Receipt by dispatching RR of report of unsafe condition at highway-rail grade crossing | 594 railroads | 63,891 reports | 1 minute | 1,065
—(d)—Receipt by dispatching RR of report of unsafe condition at pathway grade crossing | 594 railroads | 1,850 reports/1,860 records | 1 minute + 1 minute | 62
234.305(a)(2)—Immediate contact by dispatching RR not having maintenance responsibility of all trains authorized to operate through the crossing in response to credible report of warning system malfunction at highway-rail grade crossing | 594 railroads | 465 contacts | 1 minute | 8
—(a)(2)—Contact of crossing maintenance RR by dispatching RR not having maintenance responsibility in response to credible report of warning system malfunction at highway-rail grade crossing | 594 railroads | 465 contacts + 465 records | 1 minute + 1 minute | 16
—(b)(1)—In response to public report of warning system malfunction at highway-rail grade crossing immediate contact by dispatching RR having maintenance duty for crossing of all trains authorized to operate through that crossing | 594 railroads | 925 contacts + 925 records | 1 minute + 1 minute | 30
—Dispatching RR having maintenance duty for crossing contact of appropriate law enforcement authority with necessary information regarding reported malfunction | 594 railroads | 925 contacts | 1 minute | 15
234.305(b)(2)—In response to public report of warning system malfunction at highway-rail grade crossing immediate contact by dispatching RR not having maintenance duty for that crossing of all trains authorized to operate through that crossing | 594 railroads | 920 contacts | 1 minute | 15
—Dispatching RR contact of law enforcement authority to direct traffic/maintain safety | 594 railroads | 920 contacts | 1 minute | 15
—Dispatching RR contact of maintaining RR re: reported malfunction and maintaining record of unsafe condition | 594 railroads | 920 contacts + 920 records | 1 minute + 1 minute | 30
—(c)(1)—In response to report of warning system failure at pathway grade crossing dispatching RR having maintenance duty contact of all trains authorized to operate through it and record of unsafe condition | 594 railroads | 2 contacts + 2 records | 1 minute | .06666
—Dispatching RR contact of law enforcement authority agencies to direct traffic/maintain safety after above report | 594 railroads | 2 contacts | 1 minute | 03333
234.305(d)(1)—Dispatching RR having maintenance authority contact of all trains operating through highway-rail or pathway grade crossing after report of disable vehicle | 594 railroads | 7,440 contacts +7,440 rcds. | 1 minute + 1 minute | 248
—Dispatching RR having maintenance duty contact of law enforcement authority after report of disabled vehicle/other obstruction | 594 railroads | 7,440 contacts | 1 minute | 124
(d)(2)—Dispatching RR not having maintenance authority contact of all trains operating through highway-rail or pathway grade crossing after report of disable vehicle/unsafe condition | 594 railroads | 2,556 contacts | 1 minute | 43
—Dispatching RR contact not having maintenance authority contact of all trains operating through highway-rail or pathway grade crossing after report of disable vehicle/other unsafe condition | 594 railroads | 2,556 contacts | 1 minute | 43
—Dispatching RR contact of maintaining RR regarding unsafe condition at crossing & record of unsafe condition | 594 railroads | 2,556 contacts + 2,556 record | 1 minute + 1 minute | 86
(h)—Provision of contact information by maintaining RR to dispatching RR for reports of unsafe conditions at highway-rail and pathway grade crossings | 594 railroads | 10 contacts | 594 railroads | .1667
234.306(a)—Appointment of one (1) dispatching RR as primary dispatching RR where multiple RRs dispatch trains through the same highway-rail and pathway grade crossing to provide info. for ENS sign | 594 railroads | 50 indications & records | 60 minutes | 50
(b)—Appointment of one (1) maintaining RR as primary maintaining RR where multiple RRs dispatch trains through the same highway-rail and pathway grade crossing to provide info. for ENS sign | 594 railroads | 50 indications/records | 60 minutes | 50
234.307(b)—3rd Party telephone service report of unsafe condition at highway-rail or pathway grade crossing to maintaining RR and maintaining RR record of unsafe condition | 594 railroads | 50 reports + 50 records | 1 minute + 1 minute | 2
(c)—3rd Party telephone service report to dispatching RR of unsafe condition | 594 railroads | 50 reports | 1 minute | 1
(d)(1)—Provision of contact information to 3rd party telephone service or maintaining RR using that service to receive reports of unsafe condition at highway-rail or pathway grade crossings | 594 railroads | 17 contact calls | 15 minutes | 4
(d)(2)—Written notice by RR to FRA of intent to use 3rd party service | 594 railroads | 17 letters | 60 minutes | 17
(d)(3)—RR written notification e by RR of any changes in use or discontinuance of 3rd party service | 594 railroads | 5 letters | 60 minutes | 5
234.309(a)—ENS Signs—General—Provision of ENS telephone number to maintaining RR by dispatching RR if two RRs are not the same | 594 railroads | 10 contacts | 30 minutes | 5
(b)—ENS Signs located at highway-rail or pathway grade crossings as required by § 234.311 with necessary information to receive reports required under § 234.303 | 594 railroads | 81,948 signs | 30 minutes | 40,974
234.311(c)—Repair or replacement of ENS after discovery by responsible railroad of missing, damaged, or otherwise unusable/illegible sign to vehicular/pedestrian traffic | 594 railroads | 4,000 signs | 15 minutes | 1,000
234.313—Recordkeeping—Records of reported unsafe conditions pursuant to § 234.303 | 594 railroads | 186,000 signs | 4 minutes | 12,400

Total Estimated Responses: 56,445.

Total Estimated Total Annual Burden: 56,308 hours.

Type of Request: Extension of a currently approved collection.

Title: Control of Alcohol and Drug Use in Railroad Operations: Addition of Post-Accident Toxicological Testing for Non-Controlled Substances.

OMB Control Number: 2130-0598.

Abstract: Since 1985, as part of its accident investigation program, FRA has conducted post-accident alcohol and drug tests on railroad employees who have been involved in serious train accidents (50 FR 31508, Aug. 2, 1985). If an accident meets FRA's criteria for post-accident testing (see 49 CFR 219.201), FRA conducts tests for alcohol and for certain drugs classified as controlled substances under the Controlled Substances Act (CSA), Title II of the Comprehensive Drug Abuse Prevention Substances Act of 1970 (CSA, 21 U.S.C. 801 et seq.). Controlled substances are drugs or chemicals that are prohibited or strictly regulated because of their potential for abuse or addiction. The Drug Enforcement Agency (DEA), which is primarily responsible for enforcing the CSA, oversees the classification of controlled substances into five schedules. Schedule I contains illicit drugs, such as marijuana and heroin, which have no legitimate medical use under Federal law. Currently, FRA routinely conducts post-accident tests for the following drugs: marijuana, cocaine, phencyclidine (PCP), and certain opiates, amphetamines, barbiturates, and benzodiazepines. Controlled substances are drugs or chemicals that are prohibited or strictly regulated because of their potential for abuse or addiction.

FRA research indicates that prescription and OTC drug use has become prevalent among railroad employees. For this reason, FRA has added certain non-controlled substances to its routine post-accident testing program, which currently routinely tests only for alcohol and controlled substances. At this time, FRA is adding two types of non-controlled substances, tramadol (a synthetic opioid) and sedating antihistamines. Publication of the PATT Final Rule, however, in no way limits FRA's post-accident testing to the identified substances or in any way restricts FRA's ability to make routine amendments to its standard post-accident testing panel without prior notice. Furthermore, in addition to its standard post-accident testing panel, FRA always has the ability to test for “other impairing substances specified by FRA as necessary to the particular accident investigation.” See 49 CFR 219.211(a). This flexibility is essential, since it allows FRA to conduct post-accident tests for any substance (e.g., carbon monoxide) that its preliminary investigation shows may have played a role in an accident.

FRA uses the additional information collected for research and accident investigation purposes. The addition of non-controlled substances to the post-accident testing panel helps inform FRA about a broader range of potentially impairing prescription and OTC drugs that may be currently contributing to the cause or severity of train accidents/incidents. Research generated by these data will inform future agency policy decisions regarding these non-controlled substances.

Form Number(s): N/A.

Affected Public: Businesses.

Respondent Universe: 698 railroads.

Frequency of Submission: On occasion.

CFR section | Respondent universe | Total annual responses | Average time per response | Total annual burden hours
219.211(a)(b)(c)—RR Medical Review Officer (MRO) review of employee post-accident toxicological testing result reported as positive for alcohol or a controlled substance by designated laboratory and MRO report to FRA of Review Results | 698 railroads | 16 reports + 16 report copies | 15 minutes + 5 minutes | 5

Total Estimated Responses: 32.

Total Estimated Annual Burden: 5 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on December 23, 2015.
Corey Hill,
Acting Executive Director.

[FR Doc. 2015-32713 Filed 12-28-15; 8:45 am]

BILLING CODE 4910-06-P